DEPARTMENT OF HOUSING AND URBAN DEVELOPMENT

[Docket No. FR-5100-FA-12]

Announcement of Funding Awards for Fiscal Year 2007; Alaska Native/Native Hawaiian Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year (FY) 2007 Alaska Native/Native Hawaiian Institutions Assisting Communities (AN/NHIAC) Program. The purpose of this document is to announce the names, addresses and the amount awarded to the winners to be used to assist Alaska Native/Native Hawaiian institutions of higher education to expand their role and effectiveness in addressing communities in their localities, consistent with the purpose of Title I of the Housing and Community Development Act of 1974, as amended.

FOR FURTHER INFORMATION CONTACT: Susan Brunson, Office of University Partnerships, U.S. Department of Housing and Urban Development, 451 Seventh Street, SW., Room 8106, Washington, DC 20410, telephone (202) 402-3852. To provide service for persons who are hearing-or-speech-impaired, this number may be reached via TTY by Dialing the Federal Information Relay Service on (800) 877-8339 or (202) 708-1455. (Telephone number, other than “800” TTY numbers are not toll free).

SUPPLEMENTARY INFORMATION: The Alaska Native/Native Hawaiian Institutions Assisting Communities Program was approved by Congress under the Revised Continuing Appropriations Resolution, 2007 and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The AN/NHIAC program provides funds for a wide range of CDBG-eligible activities including housing rehabilitation and financing, property demolition or acquisition, public facilities, economic development, business entrepreneurship, and fair housing programs.

The Catalog Federal Domestic Assistance number for this program is 14.515.

On March 13, 2007 (721 FR 11487), HUD published a Notice of Funding Availability (NOFA) announcing the availability of $2.9 million appropriated in FY07, plus $810,691 in previously unobligated funds. Each eligible campus was permitted to apply individually, for $800,000 the maximum amount that can be awarded for a period of 36 months.

The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2007 Alaska Native/Native Hawaiian Institutions Assisting Communities Program Funding Competition, by Institution, Address and Grant Amount

Region X

1. University of Alaska Fairbanks/Chukchi Campus, Mr. Lincoln Saito, University of Alaska Fairbanks/Chukchi Campus, 604 3rd Street, Kotzebue, AK 99752-0297. Grant: $799,955.

2. University of Alaska Fairbanks/Bristol Bay Campus, Dr. Deborah McLean, University of Alaska Fairbanks/Bristol Bay Campus, P.O. Box 757880, Fairbanks, AK 99775-7880. Grant: $799,500.

3. Ilisagvik College, Ms. Marilyn Venable, Ilisagvik College, P.O. Box 749, Barrow, AK 99723. Grant: $799,989.

Region IX

4. University of Hawaii/Leeward Community College, Mr. Mike Pecsok, University of Hawaii/Leeward Community College, 2530 Dole Street, Sakamaki D-200, Honolulu, HI, 96822. Grant: $581,325.

5. University of Hawaii/Kapiolani Community College, Dr. Robert Franco, University of Hawaii/Kapiolani Community College, 2530 Dole Street, Sakamaki D-200, Honolulu, HI, 96822. Grant: $799,922.

Dated: August 28, 2007.
Darlene F. Williams,
Assistant Secretary for Policy Development and Research.

[FR Doc. E7-17380 Filed 8-31-07; 8:45 am]

BILLING CODE 4210-67-P